DEPARTMENT OF TRANSPORTATION

Federal Highway Administration

[Docket No. FHWA-2021-0009]

Notice of Intent To Prepare an Environmental Impact Statement for a Proposed Highway Project in Arkansas

AGENCY: Federal Highway Administration (FHWA), Department of Transportation.

ACTION: Notice of Intent To Prepare an Environmental Impact Statement.

SUMMARY: FHWA, in coordination with the Arkansas Department of Transportation (ARDOT), is issuing this Notice of Intent (NOI) to solicit comments and advise the public, agencies, and stakeholders of an Environmental Impact Statement (EIS) that will be prepared to study the effects of a highway project under consideration for the Highway 67 corridor in Clay, Greene, Lawrence, and Randolph counties, Arkansas. This notice contains a summary of the information as required in the Council on Environmental Quality (CEQ) National Environmental Policy Act (NEPA) regulations. This NOI should be reviewed together with the Supplementary NOI Information document which contains important details about the proposed project.

DATES: Comments on the NOI or the Supplementary NOI Information document must be received on or before August 2, 2021.

ADDRESSES: This NOI and the Supplementary NOI Information document are available in the docket referenced above at http://www.regulations.gov and on the project website located at Future57.transportationplanroom.com. The Supplementary NOI Information document also will be mailed upon request. Interested parties are invited to submit comments by any of the following methods:

Website: For access to the documents, go to the Federal eRulemaking Portal located at http://www.regulations.gov or the project website located at Future57.transportationplanroom.com. Follow the online instructions for submitting comments.

Fax: Randal Looney at 501-324-6423.

Mailing address or for hand delivery or courier: Federal Highway Administration, Arkansas Division, 700 West Capitol Avenue, Room 3130, Little Rock, AR 72201.

Email address: Randal.Looney@dot.gov.

All submissions should include the agency name and the docket number that appears in the heading of this Notice. All comments received will be posted without change to http://www.regulations.gov or Future57.transportationplanroom.com, including any personal information provided.

FOR FURTHER INFORMATION CONTACT: For further information and/or to get on the project mailing list, contact Mr. Randal Looney, Environmental Coordinator, Federal Highway Administration, Arkansas Division Office, 700 West Capitol Avenue, Suite 3130, Little Rock, AR 72201-3298, email: randal.looney@dot.gov, (501) 324-6430; or Mr. Bill McAbee, Environmental Project Manager, Garver, 4701 Northshore Drive, North Little Rock, Arkansas 72118, email: WCMcAbee@GarverUSA.com, (501) 376-3633.

SUPPLEMENTARY INFORMATION: The environmental review of transportation alternatives for the Highway 67 corridor will be conducted in accordance with the requirements of the National Environmental Policy Act (NEPA) of 1969, as amended (42 U.S.C. 4321, et seq.), 23 U.S.C. 139, CEQ regulations implementing NEPA (40 CFR 1500-1508), FHWA regulations implementing NEPA (23 CFR 771.101-771.139), and all applicable Federal, State, and local governmental laws and regulations.

The EIS will evaluate the environmental effects of all reasonable project alternatives and determine the potential impacts to social, economic, natural, and physical environmental resources associated with these alternatives. Federal agencies will work together to identify and mitigate any potentially significant impacts through the NEPA process. All reasonable alternatives, including new location alignments and improvements to existing Highway 67, will be considered, screened, and carried forward for detailed analysis in the Draft Environmental Impact Statement (DEIS) based on their ability to address the project's purpose and need while minimizing adverse impacts to the natural and social environments.

The project team sent letters describing the proposed NEPA study and soliciting input to the appropriate federal, tribal, state, and local agencies who have expressed or are known to have an interest or legal role in this project. Additional comments from the public, interest groups, private organizations, and other agencies will be solicited through an additional public hearing for the DEIS. The project is needed because there is a gap in the system linkage that diminishes connectivity and mobility of the National Highway System. Additionally, there is a lack of reliable transportation infrastructure to support economic development and a need to enhance resiliency to extreme weather events along the route. Furthermore, Federal legislation designated this high priority corridor as future Interstate Route 57 (I-57). The project's purpose is to develop an interstate highway system that addresses the above-described needs while minimizing the negative impacts to the natural and social environment.

All build alternatives begin at Walnut Ridge, Arkansas and end at the Arkansas-Missouri state line, a distance of approximately 42 miles. There are currently three build alternatives and the no-build alternative under consideration. The build alternatives include Alternative 1, an evaluation of improvements to existing Highway 67 with new location bypasses around the towns of Pocahontas and Corning; Alternative 2, which generally lies between Highway 67 and the Dave Donaldson Black River Wildlife Management Area (DDWMA) turning north on the east side of Corning up to the Arkansas-Missouri state line on all-new location; and Alternative 3, which generally parallels the Highway 90 corridor east of the DDWMA until reaching the town of Knobel where the study corridor turns north passing east of Corning and to the Arkansas-Missouri state line and is all on new location. Three approximately 1.7-mile alternatives provide the final connection between the main alternatives and the Arkansas-Missouri state line. These “connector” alternatives are named A, B, and C: Alternative A lies to the east of Highway 67 on new location, Alternative B improves existing Highway 67, and Alternative C lies to the west of Highway 67 on new location. The Missouri Department of Transportation (MoDOT) is a cooperating agency on this project and is working closely with ARDOT on the connector location because this will determine the southern terminal for the MoDOT section of future I-57. The No-build Alternative will not meet the purpose and need but is retained throughout the study process to help evaluate the positive and negative impacts of the build alternatives. Maps of the study area and alternatives are included in the Supplementary NOI Information document and on the project website interactive map.

Anticipated environmental constraints for the project include potential impacts to the DDWMA, the Black and Current Rivers, vegetated and farmed wetlands, floodplains, threatened and endangered species and their habitat, cultural resources, residential homes, businesses, and farmlands. Alternative 1 has the greatest potential to impact homes, businesses, and cultural resources due to improvements to the already developed Highway 67 corridor. Alternatives 2 and 3 are on new location with minor impacts to the human environment but have the greatest potential impact on farmlands and farmed wetlands. Preliminary estimates of possible impacts can be seen in the Supplementary NOI Information document.

Permits and authorizations anticipated for the project include a U.S. Army Corps of Engineers (USACE) Section 404 of the Clean Water (33 U.S.C. 1344) and Section 10 (33 U.S.C. 403) of the Rivers and Harbors Act standard (individual) permit for wetland/stream impacts and impacts to navigable waters, and Section 408 (U.S.C. 33 U.S.C. 408) approval for Civil Works project impacts such as levees.

Formal coordination with the USACE began in November 2020 when they accepted the responsibility to be a cooperating agency. A Section 401 Water Quality Certification from the Arkansas Department of Energy and Environment (ADEE) will be required for potential impacts to surface waters. Formal coordination began in May 2020 when ADEE accepted the responsibility to be a participating agency. Consultation with the U.S. Fish and Wildlife Service (USFWS) pursuant to Section 7 of the Endangered Species Act (16 U.S.C. Section 1536), will be required for biological assessments and threatened and endangered species surveys. Formal coordination with the USFWS began in May 2020 when they accepted the responsibility to be a cooperating agency. A Request for Technical Assistance for USFWS was completed in early 2020 and a preliminary plan for habitat resource evaluations and bat and mussel surveys was recently submitted to the USFWS for review. Consultation with the State Historic Preservation Officer (SHPO) for compliance with Section 106 regulations will be required for historical and archeological resources potentially impacted. Formal coordination with the SHPO began in January 2021 when they accepted the responsibility to be a participating agency.

Early scoping for this EIS study started with the local official and public meetings held in August and September 2020 and it will continue for 30 days after publication of this NOI. Project scoping also includes the previous studies' public meetings as described below. In 1996, ARDOT completed a planning study specifically for the current project area. In 2015, ARDOT conducted a second planning study and included substantial public and local official input and consideration of environmental impacts. The 2015 planning study recommendations are the basis for the preliminary range of alternatives currently under consideration. In August 2020, the project team held virtual meetings with local officials and the public and included the draft purpose and need document, three 1,000-foot-wide corridors, and other project information. The project team solicited comments on the presented materials and encouraged the public to be as detailed and specific as possible. Additional public, local official, and agency outreach will be conducted for the DEIS.

The publication date of the NOI will start a two-year time clock for the agency to reach its final decision on the project (40 CFR 1501.10(a) and (b)(2)). The schedule for completing the Draft EIS, Final EIS/Record of Decision (ROD), and permits is as follows: Draft EIS May 31, 2022; Final EIS/ROD February 28, 2023; Section 404, 408, and 10 permit—July 31, 2023; Section 401 certification July 31, 2023; Section 106 consultation May 31, 2022; Section 7 consultation June 15, 2022.

With this Notice, FHWA and ARDOT request and encourage State, Tribal, and local government agencies, and the general public, to review the complete NOI (including the Supplementary NOI Information document) and submit comments on any aspect of the project that might benefit the project understanding. Specifically, agencies and the public are asked to identify and submit potential alternatives for consideration and information such as anticipated significant issues or environmental impacts and analyses relevant to the proposed action for consideration by the lead and cooperating agencies in developing the Draft EIS. There are several methods to submit comments as described in the Addresses section of this Notice. Any questions concerning this proposed action should be directed to FHWA at the physical address, email address, or phone number provided in the For Further Information Contact section of this Notice.

(Catalog of Federal Domestic Assistance Program Number 20.205, Highway Planning and Construction. The regulations implementing Executive Order 12372 regarding intergovernmental consultation on Federal programs and activities apply to this program.)

Authority: 42 U.S.C. 4321 et seq.; 23 CFR part 771.

Vivien N. Hoang,
Division Administrator, Little Rock, Arkansas.

[FR Doc. 2021-14062 Filed 6-30-21; 8:45 am]

BILLING CODE 4910-22-P